DEPARTMENT OF DEFENSE

Department of the Army, Corps of Engineers

Intent to Prepare a Joint Environmental Impact Statement/Environmental Impact Report for the San Francisquito Creek Study, San Mateo and Santa Clara Counties, CA

Correction

In notice document 06-3458 beginning on page 18292 in the issue of Tuesday, April 11, 2006, make the following correction:

On page 18292, in the third column, in the first line, “ Sara.M.Gaines@ spd02.usace.army.mil” should read “Sarah.M.Gaines@spd02.usace. army.mil”.

[FR Doc. C6-3458 Filed 3-13-06; 8:45 am]

BILLING CODE 1505-01-D